DEPARTMENT OF COMMERCE

National Oceanic and Atmospheric Administration

RIN 0648-XS54

Marine Mammals; File No. 14603

AGENCY: National Marine Fisheries Service (NMFS), National Oceanic and Atmospheric Administration (NOAA), Commerce.

ACTION: Notice; receipt of application.

SUMMARY: Notice is hereby given that the Provincetown Center for Coastal Studies (CCS) [Responsible Party: Richard Delaney], 115 Bradford Street, Provincetown, Massachusetts 02657, has applied in due form for a permit to conduct research directed at North Atlantic right whales (Eubalaena glacialis).

DATES: Written, telefaxed, or e-mail comments must be received on or before November 25, 2009.

ADDRESSES: The application and related documents are available for review by selecting “Records Open for Public Comment” from the Features box on the Applications and Permits for Protected Species (APPS) home page, https://apps.nmfs.noaa.gov, and then selecting File No. 14603 from the list of available applications.

These documents are also available upon written request or by appointment in the following offices:

Permits, Conservation and Education Division, Office of Protected Resources, NMFS, 1315 East-West Highway, Room 13705, Silver Spring, MD 20910; phone (301)713-2289; fax (301)713-0376; and

Northeast Region, NMFS, 55 Great Republic Drive, Gloucester, MA 01930; phone (978)281-9300; fax (978)281-9333.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14603.

FOR FURTHER INFORMATION CONTACT: Kristy Beard or Amy Hapeman, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

CCS requests a five-year scientific research permit to harass right whales year-round to monitor demographics, life history traits, habitat use, and behavior in the Gulf of Maine; the majority of effort would be focused in Cape Cod Bay, Massachusetts Bay, and the Great South Channel during the season of right whale residency (December 15 - May 15). Annually, up to 400 right whales of all age classes would be approached by small plane for photo-identification and behavioral observation; up to 350 right whales of all age classes would be approached by vessel for photo-identification, direct observation, and collection of prey; and up to 20 attempts would be made to attach suction cup tags to adult or juvenile right whales from small vessels, with a maximum of 10 successful attachments. Up to 40 cetaceans of other species would be incidentally harassed annually during aerial and vessel surveys, and opportunistic sighting information and photographs would be collected. The results of this research will provide a better understanding of right whale population status, relationship to habitat conditions, distribution and abundance, movement patterns, and interactions with human activities. Data will be provided to management agencies, including NOAA Fisheries and the Massachusetts Division of Marine Fisheries, for near-real-time dynamic management of right whale habitat, and long-term refinement of conservation and recovery plans.

In compliance with the National Environmental Policy Act of 1969 (42 U.S.C. 4321 et seq.), a draft environmental assessment (EA) will be prepared to examine whether significant environmental impacts could result from issuance of the proposed scientific research permit. Concurrent with the publication of this notice in the Federal Register, NMFS is forwarding copies of this application to the Marine Mammal Commission and its Committee of Scientific Advisors.

Dated: October 21, 2009.
P. Michael Payne,
Chief, Permits, Conservation and Education Division, Office of Protected Resources, National Marine Fisheries Service.

[FR Doc. E9-25715 Filed 10-23-09; 8:45 am]

BILLING CODE 3510-22-S